NUCLEAR REGULATORY COMMISSION

Advisory Committee on the Medical Uses of Isotopes; Meeting Notice

AGENCY: U.S. Nuclear Regulatory Commission.

ACTION: Notice of meeting.

SUMMARY: The U.S. Nuclear Regulatory Commission (NRC) will convene a teleconference meeting of the Advisory Committee on the Medical Uses of Isotopes (ACMUI) on December 18, 2015, to discuss the draft report of the ACMUI Rulemaking Subcommittee that was formed to provide comments to the NRC staff on the draft final rule for title 10 of the Code of Federal Regulations (10 CFR), part 35, “Medical Use of Byproduct Material.” Meeting information, including a copy of the agenda and the subcommittee's draft report, will be available at http://www.nrc.gov/reading-rm/doc-collections/acmui/meetings/2015.html no later than December 4, 2015. The agenda and handouts may also be obtained by contacting Ms. Sophie Holiday using the information below.

DATES: The teleconference meeting will be held on Monday, December 18, 2015, 1:00 p.m. to 3:00 p.m. Eastern Standard Time.

Public Participation: Any member of the public who wishes to participate in the teleconference should contact Ms. Holiday using the contact information below.

FOR FURTHER INFORMATION CONTACT: Sophie Holiday, email: Sophie.Holiday@nrc.gov, telephone: (404) 997-4691.

Conduct of the Meeting

Dr. Philip Alderson, ACMUI Vice Chairman, will preside over the meeting. Dr. Alderson will conduct the meeting in a manner that will facilitate the orderly conduct of business. The following procedures apply to public participation in the meeting:

1. Persons who wish to provide a written statement should submit an electronic copy to Ms. Holiday at the contact information listed above. All submittals must be received by December 15, 2015, three business days prior to the meeting, and must pertain to the subcommittee's draft report. Staff is not soliciting public comment on the draft final rule itself.

2. Questions and comments from members of the public will be permitted during the meetings, at the discretion of the Vice Chairman.

3. The draft transcript and meeting summary will be available on ACMUI's Web site http://www.nrc.gov/reading-rm/doc-collections/acmui/meetings/2015.html on or about February 1, 2016.

This meeting will be held in accordance with the Atomic Energy Act of 1954, as amended (primarily section 161a); the Federal Advisory Committee Act (5 U.S.C. App); and the Commission's regulations in 10 CFR part 7.

Dated at Rockville, Maryland, this 16th day of September, 2015.
For the Nuclear Regulatory Commission.
Andrew L. Bates,
Advisory Committee Management Officer.

[FR Doc. 2015-24034 Filed 9-21-15; 8:45 am]

BILLING CODE 7590-01-P